ENVIRONMENTAL PROTECTION AGENCY

[FRL-7858-4]

Air Quality Criteria Document for Lead; Draft Project Work Plan

AGENCY: Environmental Protection Agency.

ACTION: Notice of public comment period.

SUMMARY: The U.S. Environmental Protection Agency (EPA) Office of Research and Development's National Center for Environmental Assessment (NCEA) is reviewing and, as appropriate, revising the EPA document, Air Quality Criteria for Lead, EPA-600/8-83/028aF-dF, published in June 1986, and the associated supplement (EPA-600/8-89/049F) published in 1990. Interested parties are invited to comment on a draft of EPA's Project Work Plan for updating the lead document.

DATES: The 30-day period for submission of public comments on the draft Project Work Plan begins January 7, 2005, and ends February 7, 2005.

ADDRESSES: The draft plan will be available from NCEA by January 7, 2005. Internet users will be able to download a copy of the draft plan from the NCEA home page. The URL is http://www.epa.gov/ncea/. Contact Ms. Diane Ray by phone (919) 541-3637, fax (919) 541-1818, or e-mail (ray.diane@epa.gov) to request hard copies of this plan. Please provide the document's title, Project Work Plan for Air Quality Criteria for Lead, as well as your name and address, to facilitate processing of your request. Public comments on the draft plan may be submitted electronically, by mail, by facsimile, or by hand delivery/courier. Please follow the detailed instructions as provided in the section of this notice entitled SUPPLEMENTARY INFORMATION.

FOR FURTHER INFORMATION CONTACT: For details on the period for submission of public comments, contact the Office of Environmental Information Docket; telephone: (202) 566-1752; facsimile: (202) 566-1753; or e-mail: ORD.Docket@epa.gov.

For technical information, contact Robert Elias, Ph.D., NCEA, facsimile: (919) 541-1818 or e-mail: elias.robert@epa.gov.

SUPPLEMENTARY INFORMATION: Section 108(a) of the Clean Air Act directs the Administrator to identify certain pollutants which “may reasonably be anticipated to endanger public health and welfare” and to issue air quality criteria for them. These air quality criteria are to “accurately reflect the latest scientific knowledge useful in indicating the kind and extent of all identifiable effects on public health or welfare which may be expected from the presence of [a] pollutant in the ambient air * * *.” Under section 109 of the Act, EPA is then to establish National Ambient Air Quality Standards (NAAQS) for each pollutant for which EPA has issued criteria. Section 109(d) of the Act subsequently requires periodic review and, if appropriate, revision of existing air quality criteria to reflect advances in scientific knowledge on the effects of the pollutant on public health and welfare. EPA is also to revise the NAAQS, if appropriate, based on the revised criteria.

Lead is one of six “criteria” pollutants for which EPA has established air quality criteria and NAAQS. On November 9, 2004 (69 FR 64926), EPA formally initiated its current review of the criteria and NAAQS for lead, requesting the submission of recent scientific information on specified topics. One of the next steps in this process is to prepare a project work plan for the review and, if appropriate, revision of the existing Air Quality Criteria Document (AQCD) for lead and provide for public review of a draft of the plan.

Accordingly, this notice announces the availability of a draft of EPA's Project Work Plan for Revised Air Quality Criteria for Lead, NCEA-R-1465, prepared by NCEA. The purpose of the Project Work Plan is to describe the managerial procedures for reviewing and, as appropriate, revising EPA's Air Quality Criteria for Lead, EPA-600/8-83/028aF-dF, published in June 1986, and the associated supplement (EPA-600/8-89/049F) published in 1990. The draft plan will also be reviewed by the Clean Air Scientific Advisory Committee (CASAC) of EPA's Science Advisory Board and will be revised in light of CASAC's review and comments received from the general public. Information on the date and location of the CASAC public review meeting will be published in a future Federal Register notice. The plan may be modified and amended from time to time, as necessary, to reflect actual project requirements and progress. Accordingly, any proposed schedules and outlines, or any lists of technical coordinator assignments, authors, or reviewers are subject to change. As indicated above, the draft plan will be available by January 7, 2005.

EPA has established an official public docket for information pertaining to the revision of the Lead AQCD, Docket ID No. ORD-2004-0018. The official public docket is the collection of materials, excluding Confidential Business Information (CBI) or other information whose disclosure is restricted by statute, that is available for public viewing at the Office of Environmental Information (OEI) Docket in the Headquarters EPA Docket Center, EPA West Building, Room B102, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752; facsimile: (202) 566-1753; or e-mail: ORD.Docket@epa.gov.

An electronic version of the official public docket is available through EPA's electronic public docket and comment system, E-Docket. You may use E-Docket at http://www.epa.gov/edocket/ to submit or view public comments, to access the index listing of the contents of the official public docket, and to view those documents in the public docket that are available electronically. Once in the system, select “search,” then key in the appropriate docket identification number.

Certain types of information will not be placed in E-Docket. Information claimed as CBI and other information with disclosure restricted by statute, also not included in the official public docket, will not be available for public viewing in E-Docket. Copyrighted material also will not be placed in E-Docket but will be referenced there and available as printed material in the official public docket.

Persons submitting public comments should note that EPA's policy makes the information available as received and at no charge for public viewing at the EPA Docket Center or in E-Docket. This policy applies to information submitted electronically or in paper, except where restricted by copyright, CBI, or statute.

Unless restricted as above, public comments submitted on computer disks that are mailed or delivered to the docket will be transferred to E-Docket. Physical objects will be photographed, where practical, and the photograph will be placed in E-Docket along with a brief description written by the docket staff.

You may submit public comments electronically, by mail, by facsimile, or by hand delivery/courier. To ensure proper receipt by EPA, include the appropriate docket identification number with your submission. Please adhere to the specified submitting period. Public comments received or submitted past the close date will be marked “late” and may only be considered if time permits.

If you submit public comments electronically, EPA recommends that you include your name, mailing address, and an e-mail address or other details for contacting you. Also include these contact details on the outside of any disk or CD ROM you submit, and in any cover letter accompanying the disk or CD ROM. This ensures that you can be identified as the person submitting the public comments and allows EPA to contact you in case the Agency cannot read what you submit due to technical difficulties or needs to clarify issues raised by what you submit. If EPA cannot read what you submit due to technical difficulties and cannot contact you for clarification, it may delay or prohibit the Agency's consideration of the public comments.

To access EPA's electronic public docket from the EPA Internet Home Page, select “Information Sources,” “Dockets,” and “EPA Dockets.” Once in the system, select “search,” and key in Docket ID No. ORD-2004-0018. The system is an “anonymous access” system, which means EPA will not know your identity, e-mail address, or other contact details if you are merely viewing the information.

Public comments may be sent by electronic mail (e-mail) to ORD.Docket@epa.gov, Attention Docket ID No. ORD-2004-0018. In contrast to EPA's electronic public docket, EPA's e-mail system is not an “anonymous access” system. If you send an e-mail directly to the docket without going through EPA's E-Docket, EPA's e-mail system automatically captures your e-mail address, and it becomes part of the information in the official public docket and is made available in EPA's E-Docket.

You may submit public comments on a disk or CD ROM mailed to the OEI Docket mailing address. Files will be accepted in WordPerfect, Word, or ASCII file format. Avoid the use of special characters and any form of encryption.

If you provide public comments in writing, please submit one unbound original, with pages numbered consecutively, and three copies. For attachments, provide an index, number pages consecutively with the main text, and submit an unbound original and three copies.

Dated: December 22, 2004.
Peter W. Preuss,
Director, National Center for Environmental Assessment.

[FR Doc. 05-347 Filed 1-6-05; 8:45 am]

BILLING CODE 6560-50-P